DEPARTMENT OF TRANSPORTATION

Federal Aviation Administration

14 CFR Part 39

[Docket No. FAA-2005-22876; Directorate Identifier 2005-NE-39-AD; Amendment 39-14734; AD 2006-17-13]

RIN 2120-AA64

Airworthiness Directives; RECARO Aircraft Seating GmbH & Co. (RECARO) Model 3410 Seats

AGENCY: Federal Aviation Administration (FAA), Department of Transportation (DOT).

ACTION: Final rule.

SUMMARY: The FAA is adopting a new airworthiness directive (AD) for certain RECARO Model 3410 302, 303, 306, 307, 314, 316, 317, 791, 792, and 795 series seats. This AD requires replacing the existing attachment bolts for the seat belts with longer attachment bolts. This AD results from a report of short attachment bolts that don't allow enough thread to properly secure the locknuts. We are issuing this AD to prevent a seat belt from detaching due to a loose locknut and attachment bolt, which could result in injury to an occupant during emergency conditions.

DATES: This AD becomes effective September 27, 2006. The Director of the Federal Register approved the incorporation by reference of certain publications listed in the regulations as of September 27, 2006.

ADDRESSES: You can get the service information identified in this AD from RECARO Aircraft Seating GmbH & Co. K, Technical Publications, Daimlerstrasse 21, 74523 Schwebisch Hall, Germany; Telephone 49 791 503 7183; fax 49 791 503 7220.

You may examine the AD docket on the Internet at http://dms.dot.gov or in Room PL-401 on the plaza level of the Nassif Building, 400 Seventh Street, SW., Washington, DC.

FOR FURTHER INFORMATION CONTACT: Jeffrey Lee, Aerospace Engineer, Boston Aircraft Certification Office, FAA, Engine & Propeller Directorate, 12 New England Executive Park, Burlington, MA 01803; telephone (781) 238-7161; fax (781) 238-7170.

SUPPLEMENTARY INFORMATION: The FAA proposed to amend 14 CFR part 39 with a proposed AD. The proposed AD applies to certain RECARO Model 3410 302, 303, 306, 307, 314, 316, 317, 791, 792, and 795 series seats. We published the proposed AD in the Federal Register on February 8, 2006 (71 FR 6420). That action proposed to require replacing the existing attachment bolts for the seat belts with longer attachment bolts.

Examining the AD Docket

You may examine the docket that contains the AD, any comments received, and any final disposition in person at the Docket Management Facility Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

We provided the public the opportunity to participate in the development of this AD. We have considered the comment received.

One commenter, the Boeing Airplane Company, asks us to remove the 737 aircraft minor model designator “-200” from the applicability of this AD. Boeing states that research of the configurations for all delivered Boeing 737-200 airplanes failed to reveal any of the affected seats installed on those airplanes. However, Boeing states that RECARO reported to Boeing that seats were installed in a 737-200 airplane. Boeing believes an operator installed the seats after production of the airplane. Boeing also has records of installing seats with the affected model numbers on 737-700 and 737-800 airplanes. Boeing states that those seats incorporate the longer bolts specified in RECARO service bulletin SB-No.: 3410-25MR477, Revision 3, dated May 17, 2004, and we should use the generic 737 designation without a minor model designator. We partially agree. This AD applies to the RECARO seat models identified in paragraph (c) of this AD. We list the known airplane models that use these types of seats to help owners and operators to determine if their airplane might use these seats. Listing the minor model designators for the 737 airplanes that could use these seats will help operators determine if this AD might apply to them. We retained the -200 designation, and added the -700 and -800 designations to the “used on but not limited to” statement in the Applicability.

Conclusion

We have carefully reviewed the available data, including the comment received, and determined that air safety and the public interest require adopting the AD with the changes described previously. We have determined that these changes will neither increase the economic burden on any operator nor increase the scope of the AD.

Costs of Compliance

We estimate that this AD will affect 3,101 seats installed in airplanes of U.S. registry. We also estimate that it will take about 0.10 work-hour per seat to perform the actions, and that the average labor rate is $65 per work-hour. Required parts will cost about $10 per seat. Based on these figures, we estimate the total cost of this AD to U.S. operators to be $51,166.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-17-13 RECARO Aircraft Seats GmbH & Co.: Amendment 39-14734. Docket No. FAA-2005-22876; Directorate Identifier 2005-NE-39-AD.

Effective Date

(a) This airworthiness directive (AD) becomes effective September 27, 2006.

Affected ADs

(b) None.

Applicability

(c) This AD applies to certain RECARO Aircraft Seats GmbH & Co. (RECARO) Model 3410 302, 303, 306, 307, 314, 316, 317, 791, 792, and 795 series seats. These seats are installed on, but not limited to, Boeing 737-200, 737-700, and 737-800 series, 747-400 series, 777-200 and 777-300 series; and Airbus Industries A319-100 series, A320-200 series, and A321-200 series airplanes.

Unsafe Condition

(d) This AD results from a report of short attachment bolts that don't allow enough thread to secure the locknuts properly. We are issuing this AD to prevent a seat belt from detaching due to a loose locknut and attachment bolt, which could result in injury to an occupant during emergency conditions.

Compliance

(e) You are responsible for having the actions required by this AD performed within 60 days after the effective date of this AD, unless the actions have already been done.

Replacing the Attachment Bolt

(f) For RECARO Model 3410 302, 303, 306, 307, 314, 316, 317, 791, 792, and 795 series seats with a serial number listed in section 1.A. Effectivity of RECARO service bulletin SB-No.: 3410-25MR477, Revision 3, dated May 17, 2004, replace the seat belt attachment bolt and nut. Use section 2. Accomplishment Instructions of RECARO service bulletin SB-No.: 3410-25MR477, Revision 3, dated May 17, 2004.

Alternative Methods of Compliance

(g) The Manager, Boston Aircraft Certification Office, has the authority to approve alternative methods of compliance for this AD if requested using the procedures found in 14 CFR 39.19.

Related Information

(h) Luftfahrt-Bundesamt airworthiness directive D-2004-151R1, dated June 6, 2004, also addresses the subject of this AD.

Material Incorporated by Reference

(i) You must use RECARO service bulletin SB-No.: 3410-25MR477, Revision 3, dated May 17, 2004 to perform the bolt replacements required by this AD. The Director of the Federal Register approved the incorporation by reference of this service bulletin in accordance with 5 U.S.C. 552(a) and 1 CFR part 51. Contact RECARO Aircraft Seating GmbH & Co. K, Technical Publications, Daimlerstrasse 21, 74523 Schwëbisch Hall, Germany; telephone 49 791 503 7183; fax 49 791 503 7220, for a copy of this service information. You may review copies at the FAA, New England Region, Office of the Regional Counsel, 12 New England Executive Park, Burlington, MA; or at the National Archives and Records Administration (NARA). For information on the availability of this material at NARA, call 202-741-6030, or go to: http://www.archives.gov/federal-register/cfr/ibr-locations.html.

Issued in Burlington, Massachusetts, on August 16, 2006.
Thomas A. Boudreau,
Acting Manager, Engine and Propeller Directorate, Aircraft Certification Service.

[FR Doc. E6-13911 Filed 8-22-06; 8:45 am]

BILLING CODE 4910-13-P